Proclamation 7347 of September 29, 2000

National Disability Employment Awareness Month, 2000

By the President of the United States of America

A Proclamation

This year marks the 25th anniversary of the Individuals with Disabilities Education Act and the 10th anniversary of the Americans with Disabilities Act (ADA). These two landmark civil rights laws have opened the doors of opportunity for people with disabilities and increased our awareness of the enormous contributions that Americans with disabilities can make to our national life.

A decade ago, when we were debating the Americans with Disabilities Act, critics said that making workplaces, public transportation, public facilities, and telecommunications more accessible would be too costly and burdensome. But they have been proved wrong. Since passage of the ADA in 1990, more than a million men and women with disabilities have entered the labor force and, as taxpayers, consumers, and workers, they are contributing to a period of unprecedented prosperity and record employment in our country.

Throughout my Administration, we have worked hard to break down the barriers that people with disabilities continue to face on a daily basis. In 1998, I signed the Workforce Investment Act, requiring that information technology purchased by the Federal Government be accessible to people with disabilities. In 1999, I was proud to sign the Ticket to Work and Work Incentives Improvement Act, which enables Americans with disabilities to retain their Medicare or Medicaid coverage when they go to work, because no one should have to choose between health care and a job. We are also dramatically expanding the income students with disabilities can earn while retaining access to disability benefits; and to lead by example, we are hiring more people with disabilities throughout the Federal Government.

Today's revolution in information and communications technology offers us powerful new tools to expand employment and training opportunities for people with disabilities. Whether translating web pages aloud for people who are blind or visually impaired, creating captioning for those who are deaf or hard of hearing, or enabling people with physical disabilities to control a computer through eye movement and brain waves, these technologies show enormous potential for increasing access to employment and full participation in society. We are exploring ways that Medicare and Medicaid can be enhanced to cover the cost of assistive technology so that people can live and work more independently in the communities of their choosing. And I was pleased to announce on September 21 that dozens of corporate leaders from the technology sector and the presidents of many of America's leading research universities have pledged to make their products and services accessible to and usable by people with disabilities.

A new generation of young people with disabilities is growing up in America today—graduating from high school, going to college, and preparing to participate fully in the workplace. They have a right to make the most of their potential, and our Nation must make the most of their intellect, talents, and abilities. By working together to break down barriers for Americans with disabilities, we will keep our economy growing, make a lasting investment in the future of our country, and uphold our fundamental commitment to justice and equality for all our people.

To recognize the enormous potential of individuals with disabilities and to encourage all Americans to work toward their full integration into the workforce, the Congress, by joint resolution approved August 11, 1945, as amended (36 U.S.C. 121), has designated October of each year as “National Disability Employment Awareness Month.”

NOW, THEREFORE, I, WILLIAM J. CLINTON, President of the United States of America, do hereby proclaim October 2000 as National Disability Employment Awareness Month. I call upon Government officials, educators, labor leaders, employers, and the people of the United States to observe this month with appropriate programs and activities that reaffirm our determination to fulfill the letter and spirit of the Americans with Disabilities Act.

IN WITNESS WHEREOF, I have hereunto set my hand this twenty-ninth day of September, in the year of our Lord two thousand, and of the Independence of the United States of America the two hundred and twenty-fifth.

wj

[FR Doc. 00-25674

Filed 10-3-00; 8:45 am]

Billing code 3195-01-P